DEPARTMENT OF COMMERCE

International Trade Administration

[A-570-008, C-570-009]

Calcium Hypochlorite From the People's Republic of China: Continuation of Antidumping and Countervailing Duty Orders

AGENCY: Enforcement and Compliance, International Trade Administration, Department of Commerce.

SUMMARY: As a result of the determinations by the U.S. Department of Commerce (Commerce) and the U.S. International Trade Commission (ITC) that revocation of the antidumping duty (AD) and countervailing duty (CVD) orders on calcium hypochlorite from the People's Republic of China would likely lead to the continuation or recurrence of dumping, countervailable subsidies, and material injury to an industry in the United States, Commerce is publishing a notice of continuation of these AD and CVD orders.

DATES: Applicable February 10, 2026.

FOR FURTHER INFORMATION CONTACT: Tylar Lewis, Trade Agreements Policy and Negotiations, Enforcement and Compliance, International Trade Administration, U.S. Department of Commerce, 1401 Constitution Avenue NW, Washington, DC 20230; telephone: (202) 482-6009.

SUPPLEMENTARY INFORMATION:

Background

On January 30, 2015, Commerce published in the Federal Register the AD and CVD orders on calcium hypochlorite from the People's Republic of China.¹ On June 2, 2025, the ITC instituted,² and Commerce initiated,³ the second sunset reviews of the Orders, pursuant to section 751(c) of the Tariff Act of 1930, as amended (the Act). As a result of its reviews, Commerce determined that revocation of the Order would likely lead to the continuation or recurrence of dumping and countervailable subsidies, and therefore, notified the ITC of the magnitude of the margins of dumping and subsidy rates likely to prevail should the Orders be revoked.⁴

¹ See Calcium Hypochlorite from the People's Republic of China: Antidumping Duty Order, 80 FR 5085 (January 30, 2015); see also Calcium Hypochlorite from the People's Republic of China: Countervailing Duty Order, 80 FR 5082 (January 30, 2015) (collectively, Orders).

² See Calcium Hypochlorite from China; Institution of Five-Year Reviews, 90 FR 23361 (June 2, 2025).

³ See Initiation of Five-Year (Sunset) Reviews, 90 FR 23310 (June 2, 2025).

⁴ See Calcium Hypochlorite from the People's Republic of China: Final Results of the Second Expedited Sunset Review of the Antidumping Duty Order, 90 FR 48047 (October 3, 2025); see also Calcium Hypochlorite from China: Final Results of the Expedited Second Sunset Review of the Countervailing Duty Order, 90 FR 51652 (November 18, 2025).

On February 10, 2026, the ITC published its determination, pursuant to sections 751(c) and 752(a) of the Act, that revocation of the Orders would likely lead to continuation or recurrence of material injury to an industry in the United States within a reasonably foreseeable time.⁵

⁵ See Calcium Hypochlorite from China; Determinations, 91 FR 5955 (February 10, 2026) (ITC Final Determination).

Scope of the Orders

The product covered by these Orders is calcium hypochlorite, regardless of form (e.g., powder, tablet (compressed), crystalline (granular), or in liquid solution), whether or not blended with other materials, containing at least 10 percent available chlorine measured by actual weight. The scope also includes bleaching powder and hemibasic calcium hypochlorite.

Calcium hypochlorite has the general chemical formulation Ca(OCl)2, but may also be sold in a more dilute form as bleaching powder with the chemical formulation, Ca(OCl)2.CaCl2.Ca(OH)2.2H2O or hemibasic calcium hypochlorite with the chemical formula of 2Ca(OCl)2.Ca(OH)2 or Ca(OCl)2.0.5Ca(OH)2. Calcium hypochlorite has a Chemical Abstract Service (CAS) registry number of 7778-54-3, and a U.S. Environmental Protection Agency (EPA) Pesticide Code (PC) Number of 014701. The subject calcium hypochlorite has an International Maritime Dangerous Goods (IMDG) code of Class 5.1 UN 1748, 2880, or 2208 or Class 5.1/8 UN 3485, 3486, or 3487.

Calcium hypochlorite is currently classifiable under the subheading 2828.10.0000 of the Harmonized Tariff Schedule of the United States (HTSUS). The subheading covers commercial calcium hypochlorite and other calcium hypochlorite. When tableted or blended with other materials, calcium hypochlorite may be entered under other tariff classifications, such as 3808.94.5000 and 3808.99.9500, which cover disinfectants and similar products. While the HTSUS subheadings, the CAS registry number, the U.S. EPA PC number, and the IMDG codes are provided for convenience and customs purposes, the written description of the scope of these Orders is dispositive.

Continuation of the Orders

As a result of the determinations by Commerce and the ITC that revocation of the Orders would likely lead to continuation or recurrence of dumping, countervailable subsidies, and material injury to an industry in the United States, pursuant to section 751(d)(2) of the Act, Commerce hereby orders the continuation of the Orders. U.S. Customs and Border Protection will continue to collect AD and CVD cash deposits at the rates in effect at the time of entry for all imports of subject merchandise.

The effective date of the continuation of the Orders will be February 10, 2026.⁶ Pursuant to section 751(c)(2) of the Act and 19 CFR 351.218(c)(2), Commerce intends to initiate the next five-year reviews of the Orders not later than 30 days prior to fifth anniversary of the date of the last determination by the ITC.

⁶ See ITC Final Determination.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

These five-year (sunset) reviews and this notice are in accordance with sections 751(c) and 751(d)(2) of the Act and published in accordance with section 777(i) of the Act, and 19 CFR 351.218(f)(4).

Dated: February 10, 2026.
Christopher Abbott,
Deputy Assistant Secretary for Policy and Negotiations, performing the non-exclusive functions and duties of the Assistant Secretary for Enforcement and Compliance.

[FR Doc. 2026-02951 Filed 2-12-26; 8:45 am]

BILLING CODE 3510-DS-P